DEPARTMENT OF TRANSPORTATION

Federal Aviation Administration

14 CFR Part 39

[Docket No. 2001-NM-240-AD]

RIN 2120-AA64

Airworthiness Directives; Boeing Model 767-200, -300, -300F, -400, and -400ER Series Airplanes

AGENCY: Federal Aviation Administration, DOT.

ACTION: Notice of proposed rulemaking (NPRM).

SUMMARY: This document proposes the supersedure of an existing airworthiness directive (AD), applicable to certain Boeing Model 767 series airplanes, that currently requires revising the Airworthiness Limitations Section of the Maintenance Planning Data (MPD) Document (767 Airworthiness Limitations Instructions (ALI)). The revision incorporates into the ALI certain inspections and compliance times to detect fatigue cracking of principal structural elements (PSE). This action would expand the applicability in the existing AD, and would require incorporating a new revision into the Airworthiness Limitations Section of the MPD Document. The actions specified by the proposed AD are intended to ensure that fatigue cracking of various PSEs is detected and corrected; such fatigue cracking could adversely affect the structural integrity of these airplanes. This action is intended to address the identified unsafe condition.

DATES: Comments must be received by April 17, 2003.

ADDRESSES: Submit comments in triplicate to the Federal Aviation Administration (FAA), Transport Airplane Directorate, ANM-114, Attention: Rules Docket No. 2001-NM-240-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-240-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-240-AD.” The postcard will be date stamped and returned to the commenter.

Availability of NPRMs

Any person may obtain a copy of this NPRM by submitting a request to the FAA, Transport Airplane Directorate, ANM-114, Attention: Rules Docket No. 2001-NM-240-AD, 1601 Lind Avenue, SW., Renton, Washington 98055-4056.

Discussion

On April 19, 2001, the FAA issued AD 2001-08-28, amendment 39-12205 (66 FR 21077, April 27, 2001), applicable to certain Boeing Model 767 series airplanes, to require revising the Airworthiness Limitations Section of the Maintenance Planning Data (MPD) Document (767 Airworthiness Limitations Instructions (ALI)). The revision will incorporate into the ALI certain inspections and compliance times to detect fatigue cracking of principal structural elements (PSE). That action was prompted by analysis of data that identified specific initial inspection thresholds and repetitive inspection intervals for certain PSEs to be added to the ALI. The requirements of that AD are intended to ensure that fatigue cracking of various PSEs is detected and corrected; such fatigue cracking could adversely affect the structural integrity of these airplanes.

Actions Since Issuance of Previous Rule

In the preamble to AD 2001-08-28, we indicated that the actions required by that AD were considered “interim action” and that further rulemaking action was being considered. We now have determined that further rulemaking action is indeed necessary, and this proposed AD follows from that determination.

New Revisions of ALI

We have reviewed and approved Subsection B, Section 9, of Boeing Document D622T001-9, entitled “Airworthiness Limitations and Certification Maintenance Requirements,” Revisions June 2000, February 2001, and October 2002, of the Boeing 767 MPD Document. That document describes specific initial inspection thresholds and repetitive inspection intervals for certain PSEs (identified as structural significant items in the ALI). That document explicitly identifies all of the PSEs that are to be inspected in accordance with the requirements of the ALI. Boeing Document D622T001-9, Revision June 1997, was referenced in the existing AD for accomplishment of the actions specified.

Subsection B, Section 9, of Boeing Document D622T001-9 of the Boeing 767 MPD Document references Appendix B, Revision December 2002, which provides Damage Tolerance Rating (DTR) Check Forms and the procedures for using the forms after accomplishment of the initial inspections identified in the MPD to determine the repetitive inspection thresholds.

Explanation of Requirements of Proposed Rule

Since an unsafe condition has been identified that is likely to exist or develop on other products of this same type design, the proposed AD would supersede AD 2001-08-28 to expand the applicability in the existing AD and require operators to revise the Boeing Model 767 ALI to incorporate Boeing Document D622T001-9, Revisions June 2000, February 2001, and October 2002 of the Boeing 767 MPD Document. However, nothing in this proposed AD is intended to affect any of the requirements related to the life limits or certification maintenance requirements that are contained elsewhere in the MPD. This proposed AD is intended to address only those PSE inspections that are referred to in Subsection B, Section 9, entitled “Airworthiness Limitations—Structural Inspections” of Boeing Document D622T001-9, Revision October 2002.

Cost Impact

There are approximately 884 airplanes of the affected design in the worldwide fleet. We estimate that 393 airplanes of U.S. registry would be affected by this proposed AD.

The actions that are currently required by AD 2001-08-28 take approximately 1 work hour per airplane to accomplish, at an average labor rate of $60 per work hour. Based on these figures, the cost impact of the currently required actions is estimated to be $60 per airplane.

The new actions that are proposed in this AD action would take approximately 1 work hour per airplane to accomplish, at an average labor rate of $60 per work hour. Based on these figures, the cost impact of the proposed requirements of this AD on U.S. operators is estimated to be $23,580, or $60 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12205 (66 FR 21077, April 27, 2001), and by adding a new airworthiness directive (AD), to read as follows:

Boeing: Docket 2001-NM-240-AD. Supersedes AD 2001-08-28, amendment 39-12205.

Applicability: Model 767-200, -300, -300F, -400 and -400ER series airplanes having line numbers 1 through 895 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To ensure that fatigue cracking of various principal structural elements, which could adversely affect the structural integrity of these airplanes, is detected and corrected, accomplish the following:

Restatement of Requirements of AD 2001-08-28

Revise Section 9 of the Boeing 767 Maintenance Planning Data (MPD) Document

(a) For Model 767-200 and -300 series airplanes having line numbers 1 through 669 inclusive: Within 3 years after June 1, 2001 (the effective date of AD 2001-08-28, amendment 39-12205), revise Subsection B, Section 9 of Boeing Document D622T001-9 entitled “Airworthiness Limitations and Certification Maintenance Requirements” to incorporate Revision June 1997, June 2000, February 2001, or October 2002.

Note 2: The referenced Subsection B contains a requirement that cracks found during the specified inspections be reported to the Seattle Aircraft Certification Office (ACO), FAA. Information collection requirements contained in this regulation have been approved by the Office of Management and Budget under the provisions of the Paperwork Reduction Act of 1980 (44 U.S.C. 3501, et seq.) and have been assigned OMB Control Number 2120-0056.

Note 3: For the purposes of this AD, the terms principal structural elements (PSEs) as used in this AD, and structural significant items (SSIs) as used in Section 9 of Model 767 MPD Document, are considered to be interchangeable.

Alternative Inspections and Inspection Intervals

(b) Except as provided by paragraph (e)(1) of this AD: After the actions required by paragraph (a) of this AD have been accomplished, no alternative inspections or inspection intervals shall be approved for the SSIs contained in Section 9 of Boeing 767 MPD Document D622T001-9, Revisions June 1997, June 2000, or February 2001.

New Requirements of This AD

Revise Section 9 of the Boeing 767 MPD

(c) For Model 767-200, -300, -300F, -400 and -400ER series airplanes having line numbers 1 through 895 inclusive: Within 18 months after the effective date of this AD, revise Subsection B, Section 9 of Boeing Document D622T001-9 entitled “Airworthiness Limitations and Certification Maintenance Requirements” to incorporate Revision October 2002; and Appendix B, Revision December 2002.

Alternative Inspections and Inspection Intervals

(d) Except as provided by paragraph (e)(1) of this AD: After the actions required by paragraph (c) of this AD have been accomplished, no alternative inspections or inspection intervals shall be approved for the SSIs contained in Section 9 of Boeing 767 MPD Document D622T001-9, Revision October 2002.

Alternative Methods of Compliance

(e)(1) An alternative method of compliance or adjustment of the compliance time that provides an acceptable level of safety may be used if approved by the Manager, Seattle Aircraft Certification Office (ACO), FAA, Transport Airplane Directorate. Operators shall submit their requests through an appropriate FAA Principal Maintenance Inspector, who may add comments and then send it to the Manager, Seattle ACO.

(2) Except as provided by paragraph (e)(3) of this AD: Alternative methods of compliance, approved previously in accordance with AD 2001-08-28, amendment 39-12205, are approved as alternative methods of compliance with paragraphs (a) and (c) of this AD.

(3) The procedures specified in Subsection B of Boeing Document D622T001-9, Revision JUNE 2000; are not approved as alternative methods of compliance with paragraph (d) of this AD.

Note 4: Information concerning the existence of approved alternative methods of compliance with this AD, if any, may be obtained from the Seattle ACO.

Special Flight Permits

(f) Special flight permits may be issued in accordance with §§ 21.197 and 21.199 of the Federal Aviation Regulations (14 CFR 21.197 and 21.199) to operate the airplane to a location where the requirements of this AD can be accomplished.

Issued in Renton, Washington, on February 24, 2003.
Ali Bahrami,
Acting Manager, Transport Airplane Directorate, Aircraft Certification Service.

[FR Doc. 03-4840 Filed 2-28-03; 8:45 am]

BILLING CODE 4910-13-P